NATIONAL AERONAUTICS AND SPACE ADMINISTRATION

[Notice (09-050)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: June 16, 2009.

FOR FURTHER INFORMATION CONTACT: Robert M. Padilla, Patent Counsel, Ames Research Center, Code 202A-4, Moffett Field, CA 94035-1000; telephone (650) 604-5104; fax (650) 604-2767.

NASA Case No. ARC-16298-1: Nanotechnology-Based Supercapacitor.

Dated: June 10, 2009.
Richard W. Sherman,
Deputy General Counsel.

[FR Doc. E9-14058 Filed 6-15-09; 8:45 am]

BILLING CODE P